DEPARTMENT OF HEALTH AND HUMAN SERVICES

Centers for Disease Control and Prevention

[CDC-2019-0001; Docket Number NIOSH-323]

Final National Occupational Research Agenda for Hearing Loss Prevention

AGENCY: National Institute for Occupational Safety and Health (NIOSH) of the Centers for Disease Control and Prevention (CDC), Department of Health and Human Services (HHS).

ACTION: Notice of availability.

SUMMARY: NIOSH announces the availability of the final National Occupational Research Agenda for Hearing Loss Prevention.

DATES: The final document was published on July 30, 2019 on the CDC website.

ADDRESSES: The document may be obtained at the following link: https://www.cdc.gov/nora/councils/hlp/agenda.html

FOR FURTHER INFORMATION CONTACT: Emily Novicki, M.A., M.P.H, (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On February 5, 2019, NIOSH published a request for public review in the Federal Register [84 FR 1736] of the draft version of the National Occupational Research Agenda for Hearing Loss Prevention. NIOSH received three comments, which were reviewed and addressed where appropriate. In the final document, an additional research need was added, to perform targeted surveillance of worker hearing, cardiovascular health, mental health, and related health outcomes within worker populations with limited available research, such as workers in small construction firms, landscaping companies, restaurants, bars, sports arenas and complexes, music venues, and within public service. A response to

Public Comment document can be found in the Supporting Documents section on www.regulations.gov for this docket.

John J. Howard,
Director, National Institute for Occupational Safety and Health, Centers for Disease Control and Prevention.

[FR Doc. 2019-16743 Filed 8-5-19; 8:45 am]

BILLING CODE 4163-18-P